DEPARTMENT OF COMMERCE

International Trade Administration

[A-821-820]

Ferrosilicon From the Russian Federation: Preliminary Determination of Sales at Not Less Than Fair Value

AGENCY: Enforcement and Compliance, formerly Import Administration, International Trade Administration, Department of Commerce.

SUMMARY: The Department of Commerce (“the Department”) preliminarily determines that ferrosilicon from the Russian Federation (“Russia”) is not being, nor is likely to be, sold in the United States at less than fair value (“LTFV”), as provided in section 733(b) of the Tariff Act of 1930, as amended (“the Act”). The period of investigation is July 1, 2012, through June 30, 2013. The estimated weighted-average dumping margins of sales at LTFV are listed in the “Preliminary Determination” section of this notice. Interested Parties are invited to comment on this preliminary determination. The final determination will be issued not later than 75 days after publication of this preliminary determination in the Federal Register.

DATES: Effective Date: March 11, 2014.

FOR FURTHER INFORMATION CONTACT: Irene Gorelik, AD/CVD Operations, Office V, Enforcement and Compliance, International Trade Administration, U.S. Department of Commerce, 14th Street and Constitution Avenue NW., Washington, DC 20230; telephone: (202) 482-6905.

SUPPLEMENTARY INFORMATION: On August 8, 2013, the Department initiated the antidumping duty investigation on ferrosilicon from Russia.¹

¹ See Ferrosilicon From the Russian Federation and Venezuela: Initiation of Antidumping Duty Investigations, 78 FR 49471 (August 14, 2013).

Scope of the Investigation

The merchandise covered by this investigation is all forms and sizes of ferrosilicon, regardless of grade, including ferrosilicon briquettes. Ferrosilicon is a ferroalloy containing by weight four percent or more iron, more than eight percent but not more than 96 percent silicon, three percent or less phosphorus, 30 percent or less manganese, less than three percent magnesium, and 10 percent or less any other element. The merchandise covered also includes product described as slag, if the product meets these specifications.

Ferrosilicon is currently classified under U.S. Harmonized Tariff Schedule (“HTSUS”) subheadings 7202.21.1000, 7202.21.5000, 7202.21.7500, 7202.21.9000, 7202.29.0010, and 7202.29.0050. Although the HTSUS subheadings are provided for convenience and customs purposes, the written description of the merchandise is dispositive.

Tolling of Deadlines for Preliminary Determination

As explained in the memorandum from the Assistant Secretary for Enforcement and Compliance, the Department exercised its discretion to toll deadlines for the duration of the closure of the Federal Government from October 1, through October 16, 2013.² Therefore, all deadlines in this investigation have been extended by 16 days. If the new deadline falls on a non-business day, in accordance with the Department's practice, the deadline will become the next business day.³ The tolled deadline for the preliminary determination of this investigation was January 13, 2014.

² See “Memorandum for the Record from Paul Piquado, Assistant Secretary for Enforcement and Compliance, `Deadlines Affected by the Shutdown of the Federal Government,'” dated October 18, 2013.

³ See Notice of Clarification: Application of “Next Business Day” Rule for Administrative Determination Deadlines Pursuant to the Tariff Act of 1930, As Amended, 70 FR 24533 (May 10, 2005).

Postponement of the Preliminary Determination

Based on a timely request from Petitioners,⁴ on December 23, 2013, the Department postponed the deadline for the preliminary determination by 50 days to March 4, 2014, pursuant to section 733(c)(1)(A) of the Act and 19 CFR 351.205(e).⁵

⁴ Petitioners include the following: Globe Specialty Metals, Inc.; CC Metals and Alloys, LLC; the United Steel, Paper and Forestry, Rubber, Manufacturing, Energy, Allied Industrial and Service Workers International Union; and the International Union, United Automobile, Aerospace and Agricultural Implement Workers of America.

⁵ See Ferrosilicon From the Russian Federation and Venezuela: Postponement of Preliminary Determinations of Antidumping Duty Investigations, 78 FR 77423 (December 23, 2013).

Methodology

The Department conducted this investigation in accordance with section 731 of the Act. Constructed export prices have been calculated in accordance with section 772 of the Act. Normal value has been calculated in accordance with section 773 of the Act.

For a full description of the methodology underlying our conclusions, see Preliminary Decision Memorandum.⁶ The Preliminary Decision Memorandum is a public document and is made available to the public via Enforcement and Compliance's Antidumping and Countervailing Duty Centralized Electronic Service System (“IA ACCESS”). IA ACCESS is available to registered users at https://iaaccess.trade.gov, and is available to all parties in the Department's Central Records Unit, located at room 7046 of the main Department of Commerce building. In addition, a complete version of the Preliminary Decision Memorandum can be found at http://enforcement.trade.gov/frn/. The signed and the electronic versions of the Preliminary Decision Memorandum are identical in content.

⁶ See “Decision Memorandum for Preliminary Determination of the Antidumping Duty Investigation of Ferrosilicon from the Russian Federation (`Russia'),” from Christian Marsh, Deputy Assistant Secretary for Enforcement and Compliance, to Paul Piquado, Assistant Secretary for Enforcement and Compliance, dated concurrently with this determination and hereby adopted by this notice (“Preliminary Decision Memorandum”).

Preliminary Determination

The Department preliminarily determines that the following weighted-average dumping margins exist:

Producer or exporter | Weighted-average margin (percent)
RFA International LP ⁷ | 0.00

Consistent with section 733(d)(1)(A) of the Act, the Department has not calculated a weighted-average dumping margin for all other producers or exporters because it has not made an affirmative preliminary determination of sales at less than fair value.

Suspension of Liquidation

Because this preliminary determination is negative, we are not directing U.S. Customs and Border Protection to suspend liquidation of entries of ferrosilicon from Russia.

Disclosure and Public Comment

The Department will disclose the calculations performed to parties in this investigation within five days of the date of publication of this notice, consistent with 19 CFR 351.224(b).

Interested parties are invited to comment on the preliminary determination of this investigation. Case briefs may be submitted to the Assistant Secretary for Enforcement and Compliance no later than seven days after the date on which the final verification report is issued in this proceeding.⁸ Rebuttal briefs, limited to issues raised in case briefs, may be submitted no later than five days after the deadline date for case briefs.⁹ Pursuant to 19 CFR 351.309(c)(2) and (d)(2), parties who submit case briefs or rebuttal briefs in this proceeding are encouraged to submit with each argument: (1) A statement of the issue; (2) a brief summary of the argument; and (3) a table of authorities.

⁷ We preliminarily determine that RFA International LP, Chelyabinsk Electrometallurgical Integrated Plant Joint Stock Company, and JSC Kuznetskie Ferrosplavy comprise a single entity. See Preliminary Decision Memorandum. Therefore, the weighted-average margin applies to the single entity comprised of these three companies.

⁸ See 19 CFR 351.309(c).

⁹ See 19 CFR 351.309(d).

Pursuant to 19 CFR 351.310(c), interested parties who wish to request a hearing, or to participate if one is requested, must submit a written request to the Assistant Secretary for Enforcement and Compliance, U.S. Department of Commerce. An electronically filed document must be received successfully in its entirety in IA ACCESS by 5 p.m. Eastern Standard Time within 30 days after the date of publication of this notice.¹⁰ Requests should contain the party's name, address, and telephone number, the number of participants, and a list of the issues to be discussed. If a request for a hearing is made, the Department will inform parties of the scheduled time and date for the hearing, which will be held at the U.S. Department of Commerce, 14th Street and Constitution Avenue NW., Washington, DC 20230. Parties should confirm by telephone the date, time, and location of the hearing two days before the scheduled date.

¹⁰ See 19 CFR 351.310(c).

U.S. International Trade Commission (“ITC”) Notification

In accordance with section 733(f) of the Act, we will notify the ITC of our preliminary negative determination of sales at LTFV. If our final determination is affirmative, the ITC will determine before the later of 120 days after the date of this preliminary determination or 45 days after our final determination whether these imports are materially injuring, or threaten material injury to, the U.S. industry.

This determination is issued and published pursuant to sections 733(f) and 777(i)(1) of the Act.

Dated: March 4, 2014.
Paul Piquado,
Assistant Secretary for Enforcement and Compliance.

Appendix

List of Topics Discussed in the Preliminary Decision Memorandum.

1. Background

2. Scope of the Investigation

3. Scope Comments

4. Respondent Selection

5. Voluntary Respondent Selection

6. Affiliation and Single Entity Determination

7. Determination of Comparison Method

a. Differential Pricing Analysis

b. Results of the Differential Pricing Analysis

8. Discussion of Methodology

a. Fair Value Comparisons

b. Product Comparisons

c. Date of Sale

d. Constructed Export Price

9. Normal Value

a. Comparison Market Viability

b. Affiliated Party Transactions and Arm's Length Test

c. Level of Trade

d. Cost of Production

e. Calculation of COP

f. Test of Comparison Market Sales Prices

g. Results of COP Test

h. Calculation of Normal Value based on Comparison Market Prices

10. Currency Conversion

11. Verification

[FR Doc. 2014-05251 Filed 3-10-14; 8:45 am]

BILLING CODE 3510-DS-P